FEDERAL COMMUNICATIONS COMMISSION

[WT Docket No. 01-309; FCC 03-168]

Exemption of Public Mobile Service Phones From the Hearing Aid Compatibility; Public Information Collection Approved by Office of Management and Budget

AGENCY: Federal Communications Commission.

ACTION: Notice; approval of reporting requirement(s).

SUMMARY: The Federal Communications Commission has received Office of Management and Budget (OMB) approval for the revised public information collection, Exemption of Public Mobile Service Phones from the Hearing Aid Compatibility Act, WT Docket No. 01-309, OMB Control Number 3060-0999. Therefore, the Commission announces that the revised information collection, OMB Control No. 3060-0999, and the associated reporting requirement(s) pursuant to the authority of sections 1, 4(i), 7, 10, 201, 202, 208, 214, 301, 303, 308, 309(j), 310, and 710 of the Communications Act of 1934, as amended, 47 U.S.C. 151, 154(i), 157, 160, 201, 202, 208, 214, 301, 303, 308, 309(j), 310 and 610 are effective July 7, 2004.

DATES: The reporting requirement(s) are effective July 7, 2004.

SUPPLEMENTARY INFORMATION: The Federal Communications Commission has received OMB approval for the revised information collection in Exemption of Public Mobile Service Phones from the Hearing Aid Compatibility Act, WT Docket No. 01-309, OMB Control Number 3060-0999. Through this document, the Commission announces that it received this approval on June 8, 2004; OMB Control No. 3060-0999. The effective date for this collection and associated reporting requirement(s), pursuant to the authority of sections 1, 4(i), 7, 10, 201, 202, 208, 214, 301, 303, 308, 309(j), 310, and 710 of the Communications Act of 1934, as amended, 47 U.S.C. 151, 154(i), 157, 160, 201, 202, 208, 214, 301, 303, 308, 309(j), 310 and 610, is July 7, 2004.

Pursuant to the Paperwork Reduction Act of 1995, Public Law 104-13, an agency may not conduct or sponsor a collection of information unless it displays a currently valid control number. Notwithstanding any other provisions of law, no person shall be subject to any penalty for failing to comply with a collection of information subject to the Paperwork Reduction Act (PRA) that does not display a valid control number. Questions concerning the OMB control number and expiration date should be directed to Judith Boley-Herman, Federal Communications Commission, (202) 418-0214 or via the Internet at Judith-B.Herman@fcc.gov.

Federal Communications Commission.
Marlene H. Dortch,
Secretary.

[FR Doc. 04-15394 Filed 7-6-04; 8:45 am]

BILLING CODE 6712-01-P